DEPARTMENT OF TRANSPORTATION

Federal Aviation Administration

14 CFR Part 39

[Docket No. FAA-2004-18998; Directorate Identifier 2003-NM-253-AD]

RIN 2120-AA64

Airworthiness Directives; Boeing Model 737-200, 737-300, 737-400, 737-500, 737-600, 737-700, 737-800, 737-900, 757-200, and 757-300 Series Airplanes; and McDonnell Douglas Model DC-10-10, DC-10-10F, DC-10-30, DC-10-30F, DC-10-40, MD-10-10F, MD-10-30F, MD-11, and MD-11F Airplanes

AGENCY: Federal Aviation Administration (FAA), DOT.

ACTION: Notice of proposed rulemaking (NPRM).

SUMMARY: The FAA proposes to supersede an existing airworthiness directive (AD) that applies to certain transport category airplanes. That AD currently requires modification of the reinforced flight deck door. This proposed AD would expand the applicability of the existing AD and require other actions related to the reinforced flight deck door. These other actions include modifying the door, inspecting and modifying wiring in the area, and revising the maintenance program to require more frequent testing of the decompression panels of the flight deck door. This proposed AD is prompted by reports of discrepancies with the reinforced flight deck door. We are proposing this AD to prevent inadvertent release of the decompression latch and consequent opening of the decompression panel in the flight deck door, or penetration of the flight deck door by smoke or shrapnel, any of which could result in injury to the airplane flightcrew. This proposed AD would also find and fix wire chafing, which could result in arcing, fire, and/or reduced controllability of the airplane.

DATES: We must receive comments on this proposed AD by October 18, 2004.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

For service information identified in this proposed AD, contact Boeing Commercial Airplanes, P.O. Box 3707, Seattle, Washington 98124-2207; or C & D Aerospace, 5701 Bolsa Avenue, Huntington Beach, California 92647-2063.

You can examine the contents of this AD docket on the Internet at http://dms.dot.gov, or at the Docket Management Facility, U.S. Department of Transportation, 400 Seventh Street SW., room PL-401, on the plaza level of the Nassif Building, Washington, DC.

FOR FURTHER INFORMATION CONTACT: Ron Atmur, Aerospace Engineer, Airframe Branch, ANM-120L, FAA, Los Angeles Aircraft Certification Office, 3960 Paramount Boulevard, Lakewood, California 90712-4137; telephone (562) 627-5224; fax (562) 627-5210.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any written relevant data, views, or arguments regarding this proposed AD. Send your comments to an address listed under ADDRESSES. Include “Docket No. FAA-2004-18998; Directorate Identifier 2003-NM-253-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

On July 2, 2003, we issued AD 2003-14-04, amendment 39-13223 (68 FR 41063, July 10, 2003), for certain Boeing Model 737-200, 737-300, 737-400, 737-500, 737-600, 737-700, 737-800, 737-900, 757-200, and 757-300 series airplanes; and McDonnell Douglas Model DC-10-10F, DC-10-30, DC-10-30F, DC-10-40, MD-10-30F, MD-11, and MD-11F airplanes. That AD requires modification of the reinforced flight deck door installed on the airplane. That AD was prompted by several reports of incidents involving the reinforced flight deck door on certain Boeing Model 737-300, 737-500, 737-800, and 757-200 series airplanes. We issued that AD to prevent inadvertent release of the decompression latch and consequent opening of the decompression panel in the flight deck door. If an airplane crewmember is in close proximity to the flight deck door when the decompression panel opens, the decompression panel could hit and injure the crewmember.

Actions Since Existing AD Was Issued

Since we issued AD 2003-14-04, we have made these determinations:

• Some subject airplanes may have been excluded from AD 2003-14-04's applicability. The requirements of that AD should apply to any airplane that has an affected reinforced flight deck door installed under certain supplemental type certificates (STC), not just those airplanes listed in the service bulletins that AD 2003-14-04 references.

• For Model DC-10, MD-11, and MD-11F series airplanes, the currently required modifications may not prevent inadvertent release of the decompression latch and consequent opening of the decompression panel in the flight deck door. Installing new, improved latch straps on the upper and lower decompression panels on the flight deck door will better ensure that a decompression panel does not open inadvertently.

• Based on post-certification testing, other modifications are necessary to the reinforced flight deck door. These modifications are included in the service information we reference in AD 2003-14-04, but we did not previously require them (as explained in the “Differences Between This AD and the Service Bulletins” section of AD 2003-14-04). Installing an armor plate over the deadbolt area of the flight deck door will better protect the door edge and door lip extrusion against penetration by bullets. Although the door as certified meets the ballistics and intrusion resistance security requirements of Section 25.795 (“Security Considerations”) of the Federal Aviation Regulations (14 CFR 25.795) (when the door is properly closed, latched, and locked), fragments caused by a bullet striking the door latch area could enter the flight deck and cause injury to a member of the flightcrew. Also, strengthening the smoke screens will allow the smoke screens to close properly and prevent smoke from entering the flight deck in the event of a fire in the airplane. Smoke in the flight deck could hinder the flightcrew's ability to continue to fly the airplane safely.

• For certain Model 737 and 757 series airplanes, the interval for the repetitive functional test of the decompression panels of the reinforced flight deck doors, as established in the original issue of the Certification Maintenance Requirements (CMR) document, is not conservative enough. More frequent inspections are needed to ensure that any failure is found in a timely manner.

• Certain wiring in the area of the flight deck door on Model 737-200 series airplanes could be damaged due to, for example, chafing against a connector bracket for the flight deck door wiring and the flight deck door post. This damage could result in arcing, fire, and/or reduced controllability of the airplane.

These determinations have prompted us to propose the new AD.

Relevant Service Information

We have reviewed these service bulletins:

• C & D Aerospace Report B22-69, Revision E, dated November 8, 2002, which applies to certain McDonnell Douglas Model 737 and 757 series airplanes. That report summarizes the CMRs for the reinforced flight deck doors installed on those airplanes. Revision E of that report reduces the repetitive interval for functional tests of the decompression panels of the flight deck door.

• C & D Aerospace Service Bulletin B211200-52-02, Revision 2, dated September 29, 2003, which applies to certain flight deck door assemblies installed on certain McDonnell Douglas Model DC-10, MD-10, and MD-11 airplanes. (AD 2003-14-04 refers to Revision 1 of that service bulletin, dated June 3, 2003, as the appropriate source of service information for installing spacers in the upper and lower pressure relief latch assemblies.) In addition to the procedures for installing spacers in the upper and lower pressure relief latch assemblies, that service bulletin describes procedures for installing an armor plate in the area of the deadbolt for ballistics reinforcement, and installing stiffeners to strengthen the smoke screen on the decompression panels.

• C & D Aerospace Service Bulletin B211200-52-01, Revision 3, dated September 18, 2003, which applies to certain flight deck door assemblies installed on certain McDonnell Douglas Models DC-10, MD-11, and MD-11F airplanes. That service bulletin describes procedures for modifying the upper and lower pressure relief latch assemblies by installing new latch straps.

• C & D Aerospace Alert Service Bulletin B221001-52A02, dated November 5, 2002, which applies to certain flight deck door assemblies installed on certain Boeing Model 737-200 series airplanes. That service bulletin describes procedures for inspecting for chafing of wire bundles in the area of the flight deck door, and corrective actions if necessary. The corrective actions involve rerouting certain wiring or reorienting certain brackets, as applicable.

• C & D Aerospace Alert Service Bulletin B221001-52A05, Revision 2, dated June 19, 2003, which applies to certain flight deck door assemblies installed on certain Boeing Model 737-200 series airplanes. That service bulletin describes procedures for reworking certain wiring for the flight deck door to relocate a power wire for the flight deck door.

• C & D Aerospace Service Bulletin B221200-52-01, Revision 1, dated June 27, 2003, which applies to certain flight deck door assemblies installed on certain Boeing Model 737 and 757 series airplanes. That service bulletin describes procedures for installing an armor plate in the area of the flight deck door deadbolt for ballistics reinforcement.

• C & D Aerospace Alert Service Bulletin B251200-52-01, dated April 30, 2003, which applies to certain flight deck door assemblies installed on certain Model MD-11 airplanes. That service bulletin describes procedures for modifying the flight deck door by installing stiffeners to strengthen the smoke screen on the flight deck door's decompression panels.

Doing the actions specified in the applicable service information is intended to adequately address the unsafe condition.

FAA's Determination and Requirements of the Proposed AD

We have evaluated all pertinent information and identified an unsafe condition that is likely to exist or develop on other products of this same type design. Therefore, we are proposing this AD, which would supersede AD 2003-14-04. This proposed AD would continue to require modification of the reinforced flight deck door. This proposed AD would expand the applicability of the existing AD to include all airplanes modified under certain STCs. This proposed AD would require you to do the actions in the applicable service information described previously, using that same service information, except as discussed under “Differences Between the Proposed AD and Service Information.” This proposed AD would also require you to revise the airplane's maintenance program to require repetitive functional testing of the decompression panels of the flight deck door at the intervals specified in C & D Aerospace Report B22-69, Revision E.

Differences Between the Proposed AD and Service Information

Although the service bulletins recommend accomplishing the modification “as soon as manpower, facilities, and retrofit kits become available,” or “as soon as possible,” we have determined that a more specific compliance time is necessary to ensure an adequate level of safety for the affected fleet. In developing an appropriate compliance time for this AD, we considered the flight deck door manufacturer's recommendation, the degree of urgency associated with the subject unsafe conditions, the number of affected airplanes in the fleet, and the time necessary to perform the modifications. In light of all of these factors, we find that 6 months to 18 months, depending on the action, represents an appropriate interval of time for affected airplanes to continue to operate without compromising safety.

C & D Aerospace Alert Service Bulletin B221001-52A02 specifies inspecting for chafing of wire bundles in the area of the flight deck door, but does not specify the type of inspection. Paragraph (l)(2) of this proposed AD identifies this inspection as a general visual inspection, and Note 2 of this proposed AD defines this inspection.

Table 3 of this proposed AD specifies that the actions in C & D Aerospace Service Bulletin B211200-52-01 must be done on McDonnell Douglas Model DC-10-10, DC-10-10F, DC-10-30, DC-10-30F, DC-10-40, MD-10-10F, MD-10-30F, MD-11, and MD-11F airplanes that are equipped with a flight deck door assembly having part number B211200. Though the effectivity listing of C & D Aerospace Service Bulletin B211200-52-01 does not identify all of these models, we find that the subject flight deck door assembly is type certificated for all of these models. Thus, listing all affected models will ensure that the applicable actions are done on all affected airplanes.

Changes to Existing AD

This proposed AD would retain all requirements of AD 2003-14-04. Since AD 2003-14-04 was issued, the AD format has been revised, and certain paragraphs have been rearranged. As a result, the corresponding paragraph identifiers have changed in this proposed AD, as listed in the following table:

Revised Paragraph Identifiers
Requirement in AD 2003-14-04 | Corresponding requirement in this proposed AD
Paragraph (a) | Paragraph (f).
Paragraph (b) | Paragraph (g).
Paragraph (c) | Paragraph (h).

Also, we have revised paragraph (f)(3) of this proposed AD (which was paragraph (a)(3) of the existing AD) to remove the last sentence of the paragraph. We have determined that this sentence does not apply to the airplanes listed in paragraph (f)(3).

Costs of Compliance

This proposed AD would affect about 3,423 airplanes worldwide.

The following table provides the estimated costs for U.S. operators to comply with the currently required actions that this proposed AD would continue to require, at an average labor rate of $65 per work hour.

Estimated Costs: Existing Requirements of AD 2003-14-04
Airplane models | As Listed in C & D Aerospace Service Bulletin— | Work hours | Parts | Cost per airplane | Number of U.S.-registered airplanes | Fleet cost
737 | B221001-52-03, Revision 3 | 1 | $0 | $65 | 1,040 | $67,600
757 | B231001-52-02, Revision 4 | 2 | 0 | 130 | 519 | 67,470
DC-10, MD-10, MD-11 | B211200-52-02, Revision 1 | 2 | 0 | 130 | 21 | 2,730

The following table provides the estimated costs for U.S. operators to comply with the new actions that would be required by this proposed AD, at an average labor rate of $65 per work hour.

Estimated Costs: New Proposed Requirements
Airplane models | Action | Work hours | Parts | Cost per airplane | Number of U.S.-registered airplanes | Fleet cost
737 | Modification in C & D Aerospace Service Bulletin B221001-52-03, Revision 3 | 1 | $0 | $65 | Unknown: airplanes not modified under AD 2003-14-04 | N/A
737, 757 | Revision of maintenance program | 1 | None | 65 | 651 | $42,315
737, 757 | Modification in C & D Aerospace Service Bulletin B221200-52-01, Revision 1 | 1 | 0 | 65 | 1,673 | 108,745
737-200 | Modification in C & D Aerospace Alert Service Bulletin B221001-52A05, Revision 2 | 1 | None | 65 | 134 | 8,710
737-200 | Inspection in C & D Aerospace Alert Service Bulletin B221001-52A02 | 2 | None | 130 | 134 | 17,420
757 | Modification in C & D Aerospace Service Bulletin B231001-52-02, Revision 4 | 2 | 0 | 130 | Unknown: airplanes not modified under AD 2003-14-04 | N/A
DC-10, MD-11, MD-11F | Modification in C & D Aerospace Service Bulletin B211200-52-01, Revision 3 | 1 | 0 | 65 | 155 | 10,075
DC-10, MD-10, MD-11 | Modification in C & D Aerospace Service Bulletin B211200-52-02 | 2 | 0 | 130 | Unknown: airplanes not modified under AD 2003-14-04 | N/A
MD-11 | Modification in C & D Aerospace Alert Service Bulletin B251200-52-01 | 1 | 0 | 65 | 6 | 390

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-13223 (68 FR 41063, July 10, 2003) and adding the following new airworthiness directive (AD):

Transport Category Airplanes: Docket No. FAA-2004-18998; Directorate Identifier 2003-NM-253-AD.

Comments Due Date

(a) The Federal Aviation Administration must receive comments on this airworthiness directive (AD) action by October 18, 2004.

Affected ADs

(b) This AD supersedes AD 2003-14-04, amendment 39-13223.

Applicability

(c) This AD applies to the airplanes listed in Table 1 of this AD, certificated in any category.

Table 1.—Affected Airplane Models
Airplane manufacturer | Airplane model | Modified by Supplemental Type Certificate (STC)
Boeing | 737-200, -300, -400, -500, -600, -700, -800, and -900 series | ST01335LA
Boeing | 757-200 and -300 series | ST9514LA-T
McDonnell Douglas | DC-10-10, DC-10-10F, DC-10-30, DC-10-30F, DC-10-40, MD-10-10F, MD-10-30F, MD-11, and MD-11F | ST01391LA

Unsafe Condition

(d) This AD was prompted by reports of discrepancies with the reinforced flight deck door. We are issuing this AD to prevent inadvertent release of the decompression latch and consequent opening of the decompression panel in the flight deck door, or penetration of the flight deck door by smoke or shrapnel, any of which could result in injury to the airplane flightcrew. We are also issuing this AD to find and fix wire chafing, which could result in arcing, fire, and/or reduced controllability of the airplane.

Compliance

(e) You are responsible for having the actions required by this AD performed within the compliance times specified, unless the actions have already been done.

Requirements of AD 2003-14-04

Note 1: Where there are differences between this AD and the referenced service bulletins, this AD prevails.

Modification

(f) For airplanes listed in Table 2 of this AD: Within 90 days after July 25, 2003 (the effective date of AD 2003-14-04, amendment 39-13223), modify the reinforced flight deck door according to paragraph (f)(1), (f)(2), or (f)(3) of this AD, as applicable.

Table 2.—Airplane Models Subject to Requirements of AD 2003-14-04
Airplane manufacturer | Airplane model | As listed in C&D Aerospace Service Bulletin—
Boeing | 737-200, -300, -400, -500, -600, -700, -800, and -900 series | B221001-52-03, Revision 3, dated March 25, 2003.
Boeing | 757-200 and -300 series | B231001-52-02, Revision 4, dated March 19, 2003.
McDonnell Douglas | DC-10-10F, DC-10-30, DC-10-30F, DC-10-40, MD-10-30F, MD-11, and MD-11F | B211200-52-02, Revision 1, dated June 3, 2003.

(1) For Boeing Model 737-200, -300, -400, -500, -600, -700, -800, and -900 series airplanes: Modify the upper and lower pressure relief latch assemblies on the flight deck door by doing all actions specified in and according to paragraphs 3.A., 3.B., and 3.C. of the Accomplishment Instructions of C & D Aerospace Service Bulletin B221001-52-03, Revision 3, dated March 25, 2003. One latch strap should be installed at the bottom of the upper pressure relief assembly, and a second latch strap should be installed at the top of the lower pressure relief assembly. When properly installed, the strap should cover a portion of the latch hook.

(2) For Boeing Model 757-200 and -300 series airplanes: Modify the upper and lower pressure relief latch assemblies on the flight deck door by doing all actions specified in and according to paragraphs 3.A., 3.B., and 3.C. of the Accomplishment Instructions of C & D Aerospace Service Bulletin B231001-52-02, Revision 4, dated March 19, 2003. One latch strap should be installed at the bottom of the upper pressure relief assembly, and a second latch strap should be installed at the top of the lower pressure relief assembly. When properly installed, the strap should cover a portion of the latch hook.

(3) For McDonnell Douglas DC-10-10F, DC-10-30, DC-10-30F, DC-10-40, MD-10-30F, MD-11, and MD-11F airplanes: Install spacers in the upper and lower pressure relief latch assemblies of the flight deck door, by doing all actions specified in and according to paragraphs 3.A., 3.C., and 3.D. of C & D Aerospace Service Bulletin B211200-52-02, Revision 1, dated June 3, 2003; or Revision 2, dated September 29, 2003.

Modifications Accomplished Per Previous Issues of Service Bulletin

(g) For airplanes listed in Table 2 of this AD: Modifications accomplished before July 25, 2003, per a service bulletin listed in paragraph (g)(1), (g)(2), or (g)(3) of this AD; as applicable; are considered acceptable for compliance with the corresponding action specified in paragraph (f) of this AD.

(1) For Boeing Model 737-200, -300, -400, -500, -600, -700, -800, and -900 series airplanes: C & D Aerospace Service Bulletin B221001-52-03, dated December 6, 2002; Revision 1, dated January 2, 2003; or Revision 2, dated February 20, 2003.

(2) For Boeing Model 757-200 and -300 series airplanes: C & D Aerospace Service Bulletin B231001-52-02, dated December 6, 2002; Revision 1, dated January 2, 2003; Revision 2, dated February 20, 2003; or Revision 3, dated March 7, 2003.

(3) For McDonnell Douglas DC-10-10F, DC-10-30, DC-10-30F, DC-10-40, MD-10-30F, MD-11, and MD-11F airplanes: C & D Aerospace Service Bulletin B211200-52-02, dated April 30, 2003.

Parts Installation

(h) As of July 25, 2003, no person may install, on any airplane, a reinforced flight deck door having any part number listed in the paragraph 1.A. of C & D Aerospace Service Bulletin B221001-52-03, Revision 3, dated March 25, 2003; B231001-52-02, Revision 4, dated March 19, 2003; or B211200-52-02, Revision 1, dated June 3, 2003; as applicable; unless the door has been modified as required by paragraph (f) of this AD.

New Requirements of This AD

Model 737 and 757 Series Airplanes: Revise Maintenance Program

(i) For Model 737-200, -300, -400, -500, -600, -700, -800, and -900 series airplanes; and Model 757-200 and -300 series airplanes: Within 6 months after the effective date of this AD, revise the FAA-approved maintenance inspection program to include the information specified in C & D Report CDR B22-69, Revision E, dated November 8, 2002.

Modifications to Flight Deck Door

(j) Modify the reinforced flight deck door by doing all applicable actions specified in the applicable service bulletin listed in Table 3 of this AD at the applicable compliance time specified in that table.

Table 3.—New Modifications to the Flight Deck Door
For these models— | Equipped with a flight deck door assembly having this P/N— | Within this compliance time after the effective date of this AD— | Do all actions in the accomplishment instructions of—
McDonnell Douglas DC-10-10, DC-10-10F, DC-10-30, DC-10-30F, DC-10-40, MD-10-10F, MD-10-30F, MD-11, and MD-11F airplanes | B211200 | 6 months | C & D Aerospace Service Bulletin B211200-52-01, Revision 3, dated September 18, 2003.
McDonnell Douglas Model MD-11 and MD-11F airplanes | B251200 | 6 months | C & D Aerospace Alert Service Bulletin B251200-52-01, dated April 30, 2003.
Boeing Model 737-200, -300, -400, -500, -600, -700, -800, and -900 series airplanes; and Model 757-200 and -300 | B221200 | 18 months | C & D Aerospace Service Bulletin B221200-52-01, Revision 1, dated June 27, 2003.
Boeing Model 737-200, -300, -400, -500, -600, -700, -800, and -900 series airplanes | B221001 | 18 months | C & D Aerospace Service Bulletin B221001-52-03, Revision 3, dated March 25, 2003; except as provided by paragraph (k) of this AD.
Boeing Model 757-200 and -300 series airplanes | B231001 | 18 months | C & D Aerospace Service Bulletin B231001-52-02, Revision 4, dated March 19, 2003; except as provided by paragraph (k) of this AD.
McDonnell Douglas DC-10-10, DC-10-10F, DC-10-30, DC-10-30F, DC-10-40, MD-10-10F, MD-10-30F, MD-11, and MD-11F airplanes | B211200 | 18 months | C & D Aerospace Service Bulletin B211200-52-02, Revision 1, dated June 3, 2003; or Revision 2, dated September 29, 2003, except as provided by paragraph (k) of this AD.

(k) For airplanes subject to paragraph (f) of this AD: Actions required by paragraph (f) of this AD that were done within the compliance time specified in paragraph (f) of this AD do not need to be repeated in accordance with paragraph (j) of this AD.

Model 737-200 Series Airplanes: Wiring Modification/Inspection

(l) For Model 737-200 series airplanes equipped with flight deck door assembly P/N B221001: Within 18 months after the effective date of this AD, do paragraphs (l)(1) and (l)(2) of this AD.

(1) Rework the wiring for the flight deck door to relocate a power wire for the flight deck door, in accordance with the Accomplishment Instructions of C & D Aerospace Alert Service Bulletin B221001-52A05, Revision 2, dated June 19, 2003.

(2) Perform a general visual inspection for chafing of wire bundles in the area of the flight deck door and applicable corrective actions by doing all of the actions in the Accomplishment Instructions of C & D Aerospace Alert Service Bulletin B221001-52A02, dated November 5, 2002. Any applicable corrective actions must be done before further flight.

Note 2: For the purposes of this AD, a general visual inspection is “a visual examination of a interior or exterior area, installation or assembly to detect obvious damage, failure or irregularity. This level of inspection is made from within touching distance unless otherwise specified. A mirror may be necessary to ensure visual access to all surfaces in the inspection area. This level of inspection is made under normal available lighting conditions such as daylight, hangar lighting, flashlight or drop-light and may require removal or opening of access panels or doors. Stands, ladders or platforms may be required to gain proximity to the area being checked.”

Parts Installation

(m) As of the effective date of this AD, no person may install a reinforced flight deck door under any STC listed in Table 1 of this AD, on any airplane, unless all applicable requirements of this AD have been done on the door.

Alternative Methods of Compliance (AMOCs)

(n)(1) The Manager, Los Angeles Aircraft Certification Office (ACO), FAA, has the authority to approve AMOCs for this AD, if requested in accordance with the procedures found in 14 CFR 39.19.

(2) Alternative methods of compliance, approved previously per AD 2003-14-04, amendment 39-13223, are approved as alternative methods of compliance with this AD.

Issued in Renton, Washington, on August 25, 2004.
Kevin M. Mullin,
Acting Manager, Transport Airplane Directorate, Aircraft Certification Service.

[FR Doc. 04-20122 Filed 9-2-04; 8:45 am]

BILLING CODE 4910-13-P